DEPARTMENT OF HEALTH AND HUMAN SERVICES

Health Resources and Services Administration

Advisory Committee on Heritable Disorders in Newborns and Children (ACHDNC); Notice of Meeting

In accordance with section 10(a)(2) of the Federal Advisory Committee Act (Public Law 92-463), notice is hereby given of the following meeting:

Name: Advisory Committee on Heritable Disorders in Newborns and Children.

Date And Time: November 24, 2008, 1 p.m.-4 p.m. EST

Place: Webcast.

The ACHDNC will meet on Monday, November 24, 2008 from 1 p.m. to 4 p.m. EST. The general public can join the meeting via webcast by logging onto http://altarum.na3.acrobat.com/achdnc/; next select “enter as a guest,” type in your full name, and click “enter room.” Participants must also dial the toll free phone number for audio (listen only). The dial-in number is 1 (877) 705-6006; when prompted say the password “HRSA Genetics”. Participants should call no later than 12:50 p.m. EST in order for the logistics to be established for participation in the call.

Meeting Registration: General public participants are asked to register for the conference by going to the registration Web site at http://events.SignUp4.com/ACHDNC1124. The registration deadline is Friday, November 21, 2008. If there are technical problems gaining access to the call, please contact Brigitte Abu-Hamed, Meetings Coordinator, Conference and Meetings Management, Altarum Institute, telephone (202) 828-5100, or e-mail Brigitte.AbuHamed@altarum.org.

Special Accomodations: Attendees requiring special needs such as large print materials or additional special needs may make comments when registering at the online Web site. Or you may wish to contact Tamar R. Shealy, Senior Meetings Manager, Conference and Meetings Management, Altarum Institute; telephone (202) 828-5100, or e-mail Tamar.Shealy@altarum.org.

Agenda: The meeting will include presentations and continued discussions on the nomination/evaluation process for newborn screening candidate conditions for review by the ACHDNC for inclusion on the uniform newborn screening panel. Agenda items are subject to change as priorities dictate. You can also locate the Agenda, presentations, and meeting materials at the home page of the Web site at http://events.SignUp4.com/ACHDNC1124.

Public Comments: Members of the public can present oral comments during the public comment period of the conference call. Those individuals are required to register at the web site, http://events.SignUp4.com/ACHDNC1124. Requests will contain the name, address, telephone number, and any professional or business affiliation of the person desiring to make an oral presentation. Groups having similar interests are requested to combine their comments and present them through a single representative. The allocation of time may be adjusted to accommodate the level of expressed interest. Each public commentator will be notified by email of their assigned presentation time.

Members of the public are required to submit written comments that will be distributed to Committee members prior to the conference call. Parties wishing to submit written comments should ensure that the comments are postmarked or emailed no later than Friday, November 21, 2008, for consideration. Comments should be submitted to Tamar R. Shealy, Meetings Manager, Conference and Meetings Management, Altarum Institute, 1200 18th Street, NW., Suite 700, Washington, DC 20036; telephone (202) 828-5100, fax (202) 785-3083, or e-mail Tamar.Shealy@altarum.org.

For Further Information Contact: Anyone requiring information regarding the ACHDNC should contact: Jill F. Shuger, M.S., Maternal and Child Health Bureau, HRSA, Parklawn Building, Room 18A-19, 5600 Fishers Lane, Rockville, Maryland 20857; telephone (301) 443-1080, fax (301) 594-0878, or e-mail jshuger@hrsa.gov.

Supplementary Information: The ACHDNC was chartered originally under Section 1111 of the Public Health Service (PHS) Act, 42 U.S.C. 300b-10 in February 2003 to advise the Secretary of the U.S. Department of Health and Human Services and as amended in the Newborn Screening Saves Lives Act. The Committee is governed by the provisions of Public Law 92-463, as amended (5 U.S.C. App. 2), and 41 CFR Part 102-3, which sets forth standards for the formation and use of advisory committees. The ACHDNC is directed to review and report regularly on newborn and childhood screening practices for heritable disorders and to recommend improvements in the national newborn and childhood heritable screening programs.

Dated: October 17, 2008.
Alexandra Huttinger,
Director, Division of Policy Review and Coordination.

[FR Doc. E8-25449 Filed 10-23-08; 8:45 am]

BILLING CODE 4165-15-P